DEPARTMENT OF THE INTERIOR

Fish and Wildlife Service

[FWS-R9-IA-2012-N082; FXIA16710900000P5-123-FF09A30000]

Endangered Species; Receipt of Applications for Permits

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless Federal authorization is acquired that allows such activities.

DATES: We must receive comments or requests for documents on or before May 7, 2012.

ADDRESSES: Lisa Lierheimer, Division of Management Authority, U.S. Fish and Wildlife Service, 4401 North Fairfax Drive, Room 212, Arlington, VA 22203; fax (703) 358-2280; or email DMAFR@fws.gov.

FOR FURTHER INFORMATION CONTACT: Lisa Lierheimer, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken.

III. Permit Applications

Endangered Species

Applicant: Friedel Ranch, Copperas Cove, TX; PRT—69093A

The applicant requests a captive-bred wildlife registration under 50 CFR 17.21(g) for the Galapagos tortoise (Chelonoidis nigra), radiated tortoise (Astrochelys radiata), Asian wild ass (Equus hemionus), barasingha (Rucervus duvaucelii), Eld's deer (Rucervus eldii), Arabian oryx (Oryx leucoryx), scimitar-horned oryx (Oryx dammah), addax (Addax nasomaculatus), dama gazelle (Nanger dama), bontebok (damaliscus pygargus pygargus), and seladang (Bos gaurus), to enhance their propagation or survival. This notification covers activities to be conducted by the applicant over a 5-year period.

Applicant: Preserve II POA, Rocksprings, TX; PRT-65826A

The applicant requests a permit authorizing interstate and foreign commerce, export, and cull of excess scimitar-horned oryx (Oryx dammah), from the captive herd maintained at their facility, for the purpose of enhancement of the survival of the species. This notification covers activities to be conducted by the applicant over a 5-year period.

Applicant: Preserve II POA, Rocksprings, TX; PRT-69574A

The applicant requests a captive-bred wildlife registration under 50 CFR 17.21(g) for the scimitar-horned oryx (Oryx dammah), to enhance their propagation or survival. This notification covers activities to be conducted by the applicant over a 5-year period.

Applicant: Six Flags Discovery Kingdom, Vallejo, CA; PRT—676508

The applicant requests renewal and amendment of their captive-bred wildlife registration under 50 CFR 17.21(g) for the following species, to enhance their propagation or survival. This notification covers activities to be conducted by the applicant over a 5-year period.

Species:

Bengal tiger (Panthera tigris tigris).

Siberian tiger (Panthera tigris altaica).

Snow leopard (Uncia uncia).

Cheetah (Acinonyx jubatus).

Orangutan (Pongo pygmaeus).

Asian elephant (Elephas maximus).

Applicant: Bramble Park Zoo, Watertown, SD; PRT—685135

The applicant requests renewal and amendment of their captive-bred wildlife registration under 50 CFR 17.21(g) for the following families, genus, and species, to enhance their propagation or survival. This notification covers activities to be conducted by the applicant over a 5-year period.

Families:

Callithricidae.

Lemuridae.

Hylobatidae.

Genus:

Panthera.

Species:

Snow leopard (Uncia uncia).

Applicant: Lucky 7 Exotics Ranch, Eden, TX; PRT-70470A

The applicant requests a captive-bred wildlife registration under 50 CFR 17.21(g) for the barasingha (Rucervus duvaucelii), Eld's deer (Rucervus eldii), Arabian oryx (Oryx leucoryx), scimitar-horned oryx (Oryx dammah), addax (Addax nasomaculatus), dama gazelle (Nanger dama), and red lechwe (Kobus leche), to enhance their propagation or survival. This notification covers activities to be conducted by the applicant over a 5-year period.

Applicant: Lucky 7 Exotics Ranch, Eden, TX; PRT-70466A

The applicant requests a permit authorizing interstate and foreign commerce, export, and cull of excess barasingha (Rucervus duvaucelii), scimitar-horned oryx (Oryx dammah), addax (Addax nasomaculatus), and red lechwe (Kobus leche), from the captive herd maintained at their facility, for the purpose of enhancement of the survival of the species. This notification covers activities to be conducted by the applicant over a 5-year period.

Applicant: Ferdinand Fercos Hantig and Anton Fercos Hantig, Las Vegas, NV; PRT-073403, 114454, and 206853

The applicant requests the re-issuance of their permits to re-export and re-import three captive born tigers (Panthera tigris) to worldwide locations for the purpose of enhancement of the species. The permit numbers and animals are 073403, Sherni; 114454, Dora; and 206853, Allaya. This notification covers activities to be conducted by the applicant over a 3-year period and the import of any potential progeny born while overseas.

Multiple Applicants

The following applicants each request a permit to import the sport-hunted trophy of one male bontebok (Damaliscus pygargus pygargus) culled from a captive herd maintained under the management program of the Republic of South Africa, for the purpose of enhancement of the survival of the species.

Applicant: Lee Anderson, Naples, FL; PRT-PRT-69571A.

Applicant: John Mikkelson, Northport, NY; PRT-70057A.

Applicant: Bruce N. Kobrin, Las Vegas, NV; PRT-70125A.

Dated: March 30, 2012.
Lisa Lierheimer,
Supervisory Policy Specialist, Branch of Permits, Division of Management Authority.

[FR Doc. 2012-8338 Filed 4-5-12; 8:45 am]

BILLING CODE 4310-55-P